COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before July 23, 2015.

ADDRESSES: Comments regarding the burden estimated or any other aspect of the information collection, including suggestions for reducing the burden, may be submitted directly to the Office of Information and Regulatory Affairs in OMB, within 30 days of the notice's publication, by email at OIRAsubmissions@omb.eop.gov. Please identify the comments by OMB Control No. 3038-0013. Please provide the Commodity Futures Trading Commission (“Commission”) with a copy of all submitted comments at the address listed below. Please refer to OMB Reference No. 3038-0013, found on http://reginfo.gov. Comments may also be mailed to the Office of Information and Regulatory Affairs, Office of Management and Budget, Attention: Desk Officer for the Commodity Futures Trading Commission, 725 17th Street NW., Washington, DC 20503, and Hannah Ropp, Surveillance Analyst, Division of Market Oversight, Commodity Futures Trading Commission, 1155 21st Street NW., Washington, DC 20581.

Comments may also be submitted by any of the following methods:

• The Agency's Web site, via its Comments Online process: http://comments.cftc.gov. Follow the instructions for submitting comments through the Web site.

• Mail: Christopher Kirkpatrick, Secretary of the Commission, Commodity Futures Trading Commission, Three Lafayette Centre, 1155 21st Street NW., Washington, DC 20581.

• Hand Delivery/Courier: Same as Mail above.

• Federal eRulemaking Portal: http://www.regulations.gov/. Follow the instructions for submitting comments through the Portal.

A copy of the supporting statements for the collection of information discussed above may be obtained by visiting RegInfo.gov. All comments must be submitted in English, or if not, accompanied by an English translation. Comments will be posted as received to http://www.cftc.gov.

FOR FURTHER INFORMATION CONTACT: Hannah Ropp, Surveillance Analyst, Division of Market Oversight; Commodity Futures Trading Commission, Three Lafayette Centre, 1155 21st Street NW., Washington, DC 20581; phone: (202) 418-5228; fax: (202) 418-5507; email: hropp@cftc.gov, and refer to OMB Control No. 3038-0013.

SUPPLEMENTARY INFORMATION:

Title: “Exemptions from Speculative Limits (OMB Control No. 3038-0013).” This is a request for extension of a currently approved information collection.

Abstract: Section 4a(a) of the Commodity Exchange Act (“Act”) allows the Commission to set speculative limits in any commodity for future delivery in order to prevent excessive speculation. Certain sections of the Act and the Commission's Regulations allow exemptions from the speculative limits for persons using the market for hedging and, under certain circumstances, for commodity pool operators and similar traders. This information collection contains the recordkeeping and reporting requirements needed to ensure regulatory compliance with Commission rules relating to this issue.

Burden Statement: The respondent burden for this collection is estimated to be 3 hours per response. These estimates include the time to locate the information related to the exemptions and to file necessary exemption paperwork.

Respondents/Affected Entities: Swap Dealers, Large Traders, and other entities affected by Rules 1.47 and 1.48 and Part 150 of the Commission's regulations.

Estimated number of respondents: 9.

Estimated total annual burden on respondents: 48 hours.

Frequency of collection: 1-2 reports annually.

There are no capital costs or operating and maintenance costs associated with this collection.

Authority: 44 U.S.C. 3501 et seq.

Dated: June 17, 2015.
Robert N. Sidman,
Deputy Secretary of the Commission.

[FR Doc. 2015-15344 Filed 6-22-15; 8:45 am]

BILLING CODE 6351-01-P